DEPARTMENT OF TRANSPORTATION

Federal Motor Carrier Safety Administration

49 CFR Parts 385 and 395

[Docket No. FMCSA-2004-19608]

RIN 2126-AB14

Hours of Service of Drivers; Availability of Supplemental Document

AGENCY: Federal Motor Carrier Safety Administration (FMCSA), DOT.

ACTION: Notice of availability of supplemental document.

SUMMARY: This notice advises the public that FMCSA is placing in the public docket an additional document concerning hours of service (HOS) for commercial motor vehicle drivers. FMCSA published an interim final rule (IFR) on this issue on December 17, 2007.

FOR FURTHER INFORMATION CONTACT: Mr. Thomas Yager, Chief, FMCSA Driver and Carrier Operations. Telephone (202) 366-4325 or E-mail MCPSD@dot.gov. Office hours are from 7:45 a.m. to 4:15 p.m., e.t., Monday through Friday, except Federal holidays.

SUPPLEMENTARY INFORMATION: On August, 25, 2005, FMCSA published a final HOS rule (“2005 rule”) (70 FR 49978). On July 24, 2007, the DC Circuit Court vacated the 11-hour driving time and 34-hour restart provisions of the 2005 rule (Owner-Operator Independent Drivers Association, Inc. v. Federal Motor Carrier Safety Administration, 494 F.3d 188 (DC Cir. 2007)). In response to the DC Circuit Court decision, FMCSA published an interim final rule (IFR) on December 17, 2007 (72 FR 71247) that reinstated the two provisions vacated by the Court and sought further comments on those provisions.

For a full background on this rulemaking, please see the preamble to the December 2007 HOS IFR. The docket for this rulemaking (FMCSA-2004-19608) contains all of the background information for this rulemaking, including comments.

This notice calls attention to an additional supplemental document that FMCSA has placed in the docket at FMCSA-2004-19608:

Belenky, G., and Wu, L.J., “Literature Review on Fatigue and Health Issues Associated with Commercial Motor Vehicle Driver Hours of Service: Update from 2004,” Washington State University, 2008.

This report summarizes the scientific and technical literature in two topical areas related to HOS: (1) Driver fatigue and (2) driver health. This review is limited to research that was published between 2004 and 2007.

Issued on: October 29, 2008.
Larry W. Minor,
Associate Administrator for Policy and Program Development.

[FR Doc. E8-26198 Filed 11-3-08; 8:45 am]

BILLING CODE 4910-EX-P